DEPARTMENT OF HEALTH AND HUMAN SERVICES

Administration for Children and Families

Submission for OMB Review; Descriptive Study of the Unaccompanied Refugee Minors Program (New Collection)

AGENCY: Office of Planning, Research, and Evaluation; Administration for Children and Families; HHS.

ACTION: Request for public comment.

SUMMARY: The Office of Planning, Research, and Evaluation (OPRE) at the Administration for Children and Families (ACF), U.S. Department of Health and Human Services (HHS) is proposing data collection activities as part of a project to better understand the range of child welfare services and benefits provided through the Unaccompanied Refugee Minors (URM) Program.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION: Description: The proposed information collection activities to be submitted in the Descriptive Study of the Unaccompanied Refugee Minors Program package include:

1. Survey of State Refugee Coordinators (SRCs) from the 15 states with URM programs.

2. Survey of URM Program Directors from all 22 URM programs.

3. Survey of Private Custody Child Welfare Agency Administrators from nine states with private custody arrangements.

4. Interviews with URM Program Managers from six URM programs.

5. Interviews with URM Program Staff (e.g., case managers, data managers) from six URM programs.

6. Interviews with Child Welfare Agency Administrators who have contact with six URM programs.

7. Interviews with Community Partners including leadership and line staff from local organizations, such as health care and mental health care providers, legal aid organizations, and faith-based groups serving the URM population at six URM program sites.

8. Interviews with Community Partners in the field of education, such as school administrators and counselors, and organizations providing English language education and support at six URM program sites.

9. Focus Groups for URM Youth from six URM programs.

10. Focus Groups for URM Foster Families from six URM programs.

Respondents: State Refugee Coordinators and supporting staff, URM Program Directors and supporting staff, Child Welfare Agency Administrators and supporting staff, URM program staff (case workers, data managers, and other staff), staff from community partner organizations (e.g., health and mental health service providers, education service providers, faith-based organizations), URM youth, and URM foster families.

Annual Burden Estimates
Instrument | Total number of respondents | Number of responses per respondent | Average burden hours per response | Annual burden hours
Survey of State Refugee Coordinators | 38 | 1 | 0.67 | 25
Survey of URM Program Directors | 55 | 1 | 1 | 55
Survey of Private Custody Child Welfare Agency Administrators | 21 | 1 | 0.67 | 14
Interviews with URM Program Managers | 9 | 1 | 1.5 | 14
Interviews with URM Program Staff | 36 | 1 | 1.5 | 54
Interviews with Child Welfare Agency Administrators | 26 | 1 | 1 | 26
Interviews with Community Partners [General] | 48 | 1 | 1 | 48
Interviews with Community Partners [Education] | 12 | 1 | 1 | 12
Focus Groups with URM Youth | 54 | 1 | 1.5 | 81
Focus Groups with URM Foster Families | 54 | 1 | 1.5 | 81

Estimated Total Annual Burden Hours: 410.

Authority: Section 1110 of the Social Security Act.

Mary B. Jones,
ACF/OPRE Certifying Officer.

[FR Doc. 2019-03489 Filed 2-27-19; 8:45 am]

BILLING CODE 4184-01-P